DEPARTMENT OF ENERGY

Federal Energy Regulatory Commission

Combined Notice of Filings

Take notice that the Commission has received the following Natural Gas Pipeline Rate and Refund Report filings:

Filings Instituting Proceedings

Docket Numbers: RP16-745-000.

Applicants: Vector Pipeline L. P.

Description: Annual Fuel Use Report for 2015 of Vector Pipeline L. P.

Filed Date: 3/28/16.

Accession Number: 20160328-5067.

Comments Due: 5 p.m. ET 4/11/16.

Docket Numbers: RP16-746-000.

Applicants: Bear Creek Storage Company, L.L.C.

Description: Operational Transactions Report of Bear Creek Storage Company, L.L.C.

Filed Date: 3/28/16.

Accession Number: 20160328-5070.

Comments Due: 5 p.m. ET 4/11/16.

Docket Numbers: RP16-747-000.

Applicants: Elba Express Company, L.L.C.

Description: 2016 Annual Interruptible Revenue Crediting Report of Elba Express Company, L.L.C.

Filed Date: 3/28/16.

Accession Number: 20160328-5071.

Comments Due: 5 p.m. ET 4/11/16.

Docket Numbers: RP16-748-000.

Applicants: Gulf Shore Energy Partners, LP.

Description: Compliance filing Gulf Shore Energy Partners—Compliance Filing to be effective 3/28/2016.

Filed Date: 3/28/16.

Accession Number: 20160328-5085.

Comments Due: 5 p.m. ET 4/11/16.

Docket Numbers: RP16-749-000.

Applicants: MoGas Pipeline LLC.

Description: § 4(d) Rate Filing: MoGas Negotiated Rate Agreement—Cuba to be effective 4/1/2016.

Filed Date: 3/28/16.

Accession Number: 20160328-5097.

Comments Due: 5 p.m. ET 4/11/16.

Docket Numbers: RP16-750-000.

Applicants: El Paso Natural Gas Company, L.L.C.

Description: § 4(d) Rate Filing: Negotiated Rate Agreement Update (APS April 2016) to be effective 4/1/2016.

Filed Date: 3/28/16.

Accession Number: 20160328-5186.

Comments Due: 5 p.m. ET 4/11/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP11-2107-002.

Applicants: Colorado Interstate Gas Company, L.L.C.

Description: Compliance filing Revenue Sharing Mechanism Update to be effective 5/1/2016.

Filed Date: 3/24/16.

Accession Number: 20160324-5143.

Comments Due: 5 p.m. ET 4/5/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2016.
Nathaniel J. Davis, Sr.,
Deputy Secretary.

[FR Doc. 2016-07721 Filed 4-4-16; 8:45 am]

BILLING CODE 6717-01-P